NUCLEAR REGULATORY COMMISSION

[Docket No. 50-311; NRC-2017-0082]

PSEG Nuclear LLC; Salem Nuclear Generating Station, Unit No. 2

AGENCY: Nuclear Regulatory Commission.

ACTION: License amendment application; withdrawal by applicant.

SUMMARY: The U.S. Nuclear Regulatory Commission (NRC) has granted the request of PSEG Nuclear LLC (PSEG or the licensee) to withdraw its application dated March 13, 2017, for a proposed amendment to Facility Operating License No. DPR-75. The proposed amendment would have extended the Salem Nuclear Generating Station (Salem), Unit No. 2, implementation period for Amendment No. 294 from the Spring 2017 refueling outage to prior to restart from the Fall 2018 refueling outage. Amendment No. 294, which was issued by the NRC staff on April 28, 2016, revised the Salem, Unit No. 2 Technical Specifications in support of replacement of the Source Range and Intermediate Range Neutron Monitoring Systems.

ADDRESSES: Please refer to Docket ID NRC-2017-0082 when contacting the NRC about the availability of information regarding this document. You may obtain publicly-available information related to this document using any of the following methods:

• Federal Rulemaking Web site: Go to http://www.regulations.gov and search for Docket ID NRC-2017-0082. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Carleen J. Parker, Office of Nuclear Reactor Regulation, U.S. Nuclear Regulatory Commission, Washington, DC 20555-0001; telephone: 301-415-1603, email: Carleen.Parker@nrc.gov.

SUPPLEMENTARY INFORMATION: The NRC has granted the request of PSEG to withdraw its March 13, 2017, application (ADAMS Accession No. ML17072A443) for a proposed amendment to Facility Operating License No. DPR-75 for Salem, Unit No. 2, located in Salem County, New Jersey.

The proposed amendment would have extended the Salem, Unit No. 2, implementation period for Amendment No. 294 from the Spring 2017 refueling outage to prior to restart from the Fall 2018 refueling outage. Amendment No. 294, which was issued by the NRC staff on April 28, 2016 (ADAMS Accession No. ML16096A419), revised the Salem, Unit No. 2, Technical Specifications in support of replacement of the Source Range and Intermediate Range Neutron Monitoring Systems.

The licensee's application was previously noticed in the Federal Register on March 30, 2017 (82 FR 15179). The licensee requested to withdraw the application on April 18, 2017 (ADAMS Accession No. ML17108A248).

Dated at Rockville, Maryland, this 25th day of April 2017.
For the Nuclear Regulatory Commission.
James G. Danna,
Chief, Plant Licensing Branch I, Division of Operating Reactor Licensing, Office of Nuclear Reactor Regulation.

[FR Doc. 2017-08842 Filed 5-1-17; 8:45 am]

BILLING CODE 7590-01-P